GENERAL SERVICES ADMINISTRATION

[Notice-PBS-2021-03; Docket No. 2021-0002; Sequence No. 13]

Federal Management Regulation; Designation of Federal Building

AGENCY: Public Buildings Service (PBS), General Services Administration (GSA).

ACTION: Notice.

SUMMARY: This bulletin announces the designation of a Federal building.

DATES: This bulletin expires January 17, 2022. The building designation remains in effect until canceled or superseded by another bulletin.

FOR FURTHER INFORMATION CONTACT: General Services Administration, Public Buildings Service (PBS), Office of Portfolio Management, Attn: Chandra Kelley, 77 Forsyth Street SW, Atlanta, GA 30303, at 404-562-2763, or by email at chandra.kelley@gsa.gov.

SUPPLEMENTARY INFORMATION: This bulletin announces the designation of a Federal building. Public Law 109-331, dated October 12, 2006, designated Building No. SC0017ZZ, located at 250 E North Street in Greenville, SC, as the “Carroll A. Campbell Jr. United States Courthouse.”

Katy Kale,
Acting Administrator.

[FR Doc. 2021-15090 Filed 7-14-21; 8:45 am]

BILLING CODE 6820-Y1-P